DEPARTMENT OF ENERGY

Federal Energy Regulatory Commission

Combined Notice of Filings #2

Take notice that the Commission received the following electric corporate filings:

Docket Numbers: EC12-6-000.

Applicants: Michigan Electric Transmission Company, Wolverine Power Supply Cooperative, Inc.

Description: Application for Order Authorizing Transactions Under Section 203 of the Federal Power Act, and Request for Waivers and Confidential Treatment of Michigan Electric Transmission Company, LLC, and Wolverine Power Supply Cooperative, Inc.

Filed Date: 10/11/2011.

Accession Number: 20111011-5312.

Comment Date: 5 p.m. Eastern Time on Tuesday, November 1, 2011.

Docket Numbers: EC12-7-000.

Applicants: Michigan Electric Transmission Company, Wolverine Power Supply Cooperative, Inc.

Description: Application for Order Authorizing Transactions Under Section 203 of the Federal Power Act, and Request for Waivers of Michigan Electric Transmission Company, LLC and Wolverine Power Supply Cooperative, Inc.

Filed Date: 10/11/2011.

Accession Number: 20111011-5314.

Comment Date: 5 p.m. Eastern Time on Tuesday, November 1, 2011.

Take notice that the Commission received the following electric rate filings:

Docket Numbers: ER10-3125-003; ER10-3102-003; ER10-3100-003; ER10-3107-003; ER10-3109-003.

Applicants: Effingham County Power, LLC, Walton County Power, LLC, Washington County Power, LLC, AL Sandersville LLC, MPC Generating LLC.

Description: Notice of Non-Material Change in Status of AL Sandersville LLC, et al.

Filed Date: 10/12/2011.

Accession Number: 20111012-5088.

Comment Date: 5 p.m. Eastern Time on Wednesday, November 2, 2011.

Docket Numbers: ER11-3962-001.

Applicants: City of Banning, California.

Description: City of Banning, California submits tariff filing per 35: Offer of Settlement and Settlement Agreement to be effective 7/1/2011.

Filed Date: 10/12/2011.

Accession Number: 20111012-5007.

Comment Date: 5 p.m. Eastern Time on Wednesday, November 2, 2011.

Docket Numbers: ER11-4462-002.

Applicants: NEPM II, LLC.

Description: NEPM II, LLC submits tariff filing per 35.17(b): NEPM II, LLC Amendment to Market-Based Rate Tariff to be effective 11/1/2011.

Filed Date: 10/12/2011.

Accession Number: 20111012-5066.

Comment Date: 5 p.m. Eastern Time on Wednesday, November 2, 2011.

Docket Numbers: ER12-64-000.

Applicants: Southern California Edison Company.

Description: Southern California Edison Company submits tariff filing per 35.13(a)(2)(iii: Letter Agreement for Houweling Nurseries Oxnard Project with HNO to be effective 10/7/2011.

Filed Date: 10/12/2011.

Accession Number: 20111012-5053.

Comment Date: 5 p.m. Eastern Time on Wednesday, November 2, 2011.

Docket Numbers: ER12-65-000.

Applicants: Granite Reliable Power, LLC.

Description: Granite Reliable Power, LLC Request for Waiver of Unreserved Transmission Use Penalties and Advance Reservation.

Filed Date: 10/11/2011.

Accession Number: 20111011-5318.

Comment Date: 5 p.m. Eastern Time on Tuesday, November 1, 2011.

Docket Numbers: ER12-66-000.

Applicants: PJM Interconnection, L.L.C.

Description: PJM Interconnection, L.L.C. submits tariff filing per 35.13(a)(2)(iii: First Energy submits revised Schedule B to ISA No. 2832 to be effective 10/10/2011.

Filed Date: 10/12/2011.

Accession Number: 20111012-5071.

Comment Date: 5 p.m. Eastern Time on Wednesday, November 2, 2011.

Take notice that the Commission received the following electric securities filings:

Docket Numbers: ES11-45-000.

Applicants: Old Dominion Electric Cooperative, Inc.

Description: Amendment to Application of Old Dominion Electric Cooperative.

Filed Date: 10/07/2011.

Accession Number: 20111007-5036.

Comment Date: 5 p.m. Eastern Time on Monday, October 17, 2011.

Take notice that the Commission received the following open access transmission tariff filings:

Docket Numbers: OA12-1-000.

Applicants: SU FERC, L.L.C.

Description: Request for Waiver of Order No. 1000 of SU FERC, L.L.C.

Filed Date: 10/11/2011.

Accession Number: 20111011-5311.

Comment Date: 5 p.m. Eastern Time on Tuesday, November 1, 2011.

Take notice that the Commission received the following electric reliability filings:

Docket Numbers: RD11-12-000.

Applicants: North American Electric Reliability Corporation.

Description: Petition of the North American Electric Reliability Corporation for Approval of Interpretations to Requirements of Reliability Standards EOP-001-0 and EOP-001-2, Emergency Operations Planning.

Filed Date: 09/09/2011.

Accession Number: 20110909-5258.

Comment Date: 5 p.m. Eastern Time on Wednesday, November 2, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 12, 2011.
Nathaniel J. Davis, Sr.,
Deputy Secretary.

[FR Doc. 2011-26999 Filed 10-18-11; 8:45 am]

BILLING CODE 6717-01-P